DEPARTMENT OF THE INTERIOR

Fish and Wildlife Service

Aquatic Nuisance Species Task Force Northeast Regional Panel Meeting

AGENCY: Fish and Wildlife Service, Interior.

ACTION: Notice of meeting.

SUMMARY: This notice announces a meeting of the Aquatic Nuisance Species (ANS) Task Force Northeast Regional Panel. The meeting topics are identified in the SUPPLEMENTARY INFORMATION.

DATES: The Northeast Regional Panel will meet from 1 p.m. to 5:30 p.m. on Wednesday, May 21, 2003, and 8:30 a.m. to 3:30 p.m., Thursday, May 22, 2003.

ADDRESSES: The Northeast Regional Panel meeting will be held at the Bluenose Inn, 90 Eden Street, Bar Harbor, ME 04609. Phone 207-288-3348.

FOR FURTHER INFORMATION CONTACT: Susan Snow-Cotter, 617-626-1202 or Sharon Gross, Executive Secretary, Aquatic Nuisance Species Task Force at 703-358-2308.

SUPPLEMENTARY INFORMATION: Pursuant to section 10(a)(2) of the Federal Advisory Committee Act (5 U.S.C. App. I), this notice announces a meeting of the Aquatic Nuisance Species Task Force Northeast Regional Panel. The Task Force was established by the Nonindigenous Aquatic Nuisance Prevention and Control Act of 1990.

The Northeast Regional Panel was established on July 25, 2001 to advise and make recommendations to the Aquatic Nuisance Species Task Force on issues relating to the Northeast region of the United States. Geographically, the Northeast region is defined to include the jurisdictions of the states of Maine, New Hampshire, Vermont, Massachusetts, Rhode Island, Connecticut, and New York. The Northeast Regional Panel will discuss several topics at this meeting including: updates of state and provincial ANS Management Plans; review of the rapid response workshop; updates and work plans of the Ballast Water Committee, Communication, Education, and Outreach Committee, the Policy and Legislation Committee; and the Science and Technology Committee: discussion on establishing research priorities for invasive species in the Northeast; discussion on a marine database; updates from the Aquatic Nuisance Species Task Force and National Invasive Species Council on national issues; an update on reauthorization of the National Aquatic Invasive Species Act; an update on pet industry outreach efforts; and other topics.

Minutes of the meeting will be maintained by the Executive Secretary, Aquatic Nuisance Species Task Force, Suite 810, 4401 North Fairfax Drive, Arlington, Virginia 22203-1622, and will be available for public inspection during regular business hours, Monday through Friday.

Dated: April 4, 2003.
Jack Arnold,
Acting Co-Chair, Aquatic Nuisance Species Task Force, Acting Assistant Director—Fisheries & Habitat Conservation.

[FR Doc. 03-9609 Filed 4-17-03; 8:45 am]

BILLING CODE 4310-55-M